DEPARTMENT OF HEALTH AND HUMAN SERVICES

National Institutes of Health

Center for Scientific Review; Amended Notice of Meeting

Notice is hereby given of a change in the meeting of the Center for Scientific Review Special Emphasis Panel, July 14, 2005, 1 p.m. to July 14, 2005, 2 p.m., National Institutes of Health, 6701 Rockledge Drive, Bethesda, MD 20892, which was published in the Federal Register on June 29, 2005, 70 FR 37418-37421.

The meeting will be held July 26, 2005. The meeting time and location remain the same. The meeting is closed to the public.

Dated: July 7, 2005.
LaVerne Y. Stringfield,
Director, Office of Federal Advisory Committee Policy.

[FR Doc. 05-13808 Filed 7-12-05; 8:45 am]

BILLING CODE 4140-01-M